DEPARTMENT OF COMMERCE

National Oceanic and Atmospheric Administration

RIN 0648-XC579

South Atlantic Fishery Management Council; Public Meetings

AGENCY: National Marine Fisheries Service (NMFS), National Oceanic and Atmospheric Administration (NOAA), Commerce.

ACTION: Notice of public meetings.

SUMMARY: The South Atlantic Fishery Management Council (Council) will hold a series of public hearings pertaining to Amendment 30 to the Snapper Grouper Fishery Management Plan (FMP).

DATES: The meetings will be held from April 15, 2013 through April 25, 2013. All meetings will be held from 4 p.m. to 7 p.m. except for the April 23, 2013 meeting in North Charleston, SC. This meeting will follow a Snapper Grouper Advisory Panel meeting and will be held from 5:30 p.m. until 7 p.m.

ADDRESSES: See SUPPLEMENTARY INFORMATION for specific meeting locations.

Council address: South Atlantic Fishery Management Council, 4055 Faber Place Drive, Suite 201, N. Charleston, SC 29405.

FOR FURTHER INFORMATION CONTACT: Kim Iverson, Public Information Officer, SAFMC; telephone: (843) 571-4366 or toll free (866) SAFMC-10; fax: (843) 769-4520; email: kim.iverson@safmc.net.

SUPPLEMENTARY INFORMATION: The meeting locations are as follows:

1. Monday, April 15, 2013: Jacksonville Marriott, 4670 Salisbury Road, Jacksonville, FL 32256; telephone: (904) 296-2222.

2. Tuesday, April 16, 2013: Radisson Resort at the Port, 8701 Astronaut Boulevard, Cape Canaveral, FL 32920; telephone: (321) 784-0000.

3. Wednesday, April 17, 2013: Holiday Inn Key Largo, 99701 Overseas Highway, Key Largo, FL 33037; telephone: (305) 451-2121.

4. Tuesday, April 23, 2013: Hilton Garden Inn, 5265 International Boulevard, North Charleston, SC 29418; telephone: (843) 308-9330.

5. Thursday, April 25, 2013: Doubletree by Hilton New Bern/Riverfront, 100 Middle Street, New Bern, NC 28560; telephone: (252) 638-3585.

The items of discussion are as follows:

Public Hearing: Amendment 30 to the Snapper Grouper FMP

1. This amendment considers a requirement for vessels with a Federal South Atlantic Commercial Snapper Grouper Permit that harvest snapper grouper stocks to be equipped with a satellite communications system (Vessel Monitoring Systems or VMS) in order to monitor fishing activities. The SAFMC is not considering a requirement for VMS on recreational or for-hire vessels unless these vessels also have a Federal South Atlantic Commercial Snapper Grouper Permit.

2. Written comments may be directed to Bob Mahood, Executive Director, SAFMC (see Council address) or via email to: SGAmend30Comments@safmc.net. Comments will be accepted until 5 p.m. on May 3, 2013.

Council staff will present an overview of the amendment and will be available for informal discussions and to answer questions. Members of the public will have an opportunity to go on record after the presentation to record their comments on the public hearing topics for consideration by the Council. Local Council representatives will attend the meetings and listen to public comment.

Although non-emergency issues not contained in this agenda may come before this group for discussion, those issues may not be the subject of formal action during this meeting. Action will be restricted to any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Dated: March 18, 2013.
Tracey L. Thompson,
Acting Deputy Director, Office of Sustainable Fisheries, National Marine Fisheries Service.

[FR Doc. 2013-06487 Filed 3-20-13; 8:45 am]

BILLING CODE 3510-22-P